DEPARTMENT OF TRANSPORTATION

Federal Aviation Administration

14 CFR Part 39

[Docket No. FAA-2006-26284; Directorate Identifier 2006-CE-68-AD; Amendment 39-15057; AD 2007-10-16]

RIN 2120-AA64

Airworthiness Directives; British Aerospace Regional Aircraft Jetstream Model 3201 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

The Airworthiness Limitations Section of the Aircraft Maintenance Manual (AMM) applicable to the British Aerospace Jetstream 3200 has been revised. Some lives have been amended and new lives introduced. Compliance with these requirements is necessary to maintain airworthiness.

We are issuing this AD to require actions to correct the unsafe condition on these products.

DATES: This AD becomes effective June 22, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Taylor Martin, Aerospace Engineer, FAA, Small Airplane Directorate, 901 Locust, Room 301, Kansas City, Missouri 64106; telephone: (816) 329-4138; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on March 13, 2007 (72 FR 11300). That NPRM proposed to correct an unsafe condition for the specified products. The MCAI states:

The Airworthiness Limitations Section of the Aircraft Maintenance Manual (AMM) applicable to the British Aerospace Jetstream 3200 has been revised. Some lives have been amended and new lives introduced. Compliance with these requirements is necessary to maintain airworthiness.

From the effective date of this Airworthiness Directive (AD), comply with the requirements of BAE Jetstream Series 3200 Aircraft Maintenance Manual, Chapter 05-10-05, Airworthiness Limitations Description and Operation Section*, Revision 14 or later EASA approved revision.

*Only the structural fatigue tasks are mandated by this AD, the following tasks are not addressed by this AD: All the tasks recorded in Tables 2, 4, 5 and 8. Together with the Table No 3—task 27-70-000 Gust lock system.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 20 products of U.S. registry. We also estimate that it will take about 1 work-hour per product to comply with basic requirements of this AD (inserting the document into the Airworthiness Limitations section of the Instructions for Continued Airworthiness or other FAA-approved maintenance document). The average labor rate is $80 per work-hour. Based on these figures, we estimate the cost of this AD on U.S. operators to be $1,600, or $80 per product.

We have no way of determining the costs associated with having to replace certain parts at an earlier time due to reduced life limits.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-10-16 British Aerospace Regional Aircraft Jetstream: Amendment 39-15057; Docket No. FAA-2006-26284; Directorate Identifier 2006-CE-68-AD.

Effective Date

(a) This airworthiness directive (AD) becomes effective June 22, 2007.

Affected ADs

(b) None.

Applicability

(c) This AD applies to Jetstream Model 3201 airplanes, all serial numbers, certificated in any category.

Subject

(d) Air Transport Association of America (ATA) Code 55: Structures.

Reason

(e) The mandatory continuing airworthiness information (MCAI) states:

The Airworthiness Limitations Section of the Aircraft Maintenance Manual (AMM) applicable to the British Aerospace Jetstream 3200 has been revised. Some lives have been amended and new lives introduced. Compliance with these requirements is necessary to maintain airworthiness.

From the effective date of this Airworthiness Directive (AD), comply with the requirements of BAE Jetstream Series 3200 Aircraft Maintenance Manual, Chapter 05-10-05, Airworthiness Limitations Description and Operation Section*, Revision 14 or later EASA approved revision. *Only the structural fatigue tasks are mandated by this AD, the following tasks are not addressed by this AD: All the tasks recorded in Tables 2, 4, 5 and 8. Together with the Table No 3—task 27-70-000 Gust lock system.

Actions and Compliance

(f) Within the next 60 days after June 22, 2007 (the effective date of this AD) do the following, unless already done:

(1) Incorporate the information referenced below from Aircraft Maintenance Manual 05-10-05 001—AIRWORTHINESS LIMITATIONS—DESCRIPTION AND OPERATION—BAe Jetstream 32, dated January 11, 2006, for Recurring Mandatory Inspections and Maintenance Actions into the Airworthiness Limitations section of the Instructions for Continued Airworthiness or other FAA-approved maintenance document.

You may use a later European Aviation Safety Agency (EASA)-approved revision that incorporates these same life limits.

Table number in document | Affected areas | AD applies
(i) Table No. 1 | Wing, Fuselage, Fin, Tailplane, Engine mounting, Flap system | Yes.
(ii) Table No. 2 | Electrical Power (all Items) | No.
(iii) Table No. 3 | Rudder pedal/brake master cylinder attachment brackets | Yes.
(iv) Table No. 3 | Gust lock system | No.
(v) Table No. 4 and Table No. 5 | Ice and rain protection (all items) | No.
(vi) Table No. 6 and Table No. 7 | Landing gear (all items) | Yes.
(vii) Table No. 8 | Lighting (all items) | No.
(viii) Table No. 9 | Doors (all items) | Yes.
(ix) Table No. 10 | Fuselage (all items) | Yes.
(x) Table No. 11 | Stabilizers (all items) | Yes.
(xi) Table No. 12 | Wings (all items) | Yes.

(2) The owner/operator holding at least a private pilot certificate as authorized by section 43.7 of the Federal Aviation Regulations (14 CFR 43.7) may do the actions of this AD. Make an entry into the aircraft records showing compliance with this AD in accordance with section 43.9 of the Federal Aviation Regulations (14 CFR 43.9).

FAA AD Differences

Note: This AD differs from the MCAI and/or service information as follows:

(1) The MCAI requires you to comply with a version of a maintenance manual that changes life limits. The FAA requires such changes through a change to the Airworthiness Limitations section of the Instructions for Continued Airworthiness or other FAA-approved maintenance document, and the FAA is mandating this through this AD.

(2) We added information in paragraph (f) that allows the owner/operator to insert this information into the Airworthiness Limitations section of the Instructions for Continued Airworthiness or other FAA-approved maintenance document. Without this information, a licensed mechanic would be required to do the action.

Other FAA AD Provisions

(g) The following provisions also apply to this AD:

(1) Alternative Methods of Compliance (AMOCs): The Manager, Standards Staff, FAA, Small Airplane Directorate, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Civil Aviation Authority AD No. G-2004-0024, Issue Date: September 22, 2004, EASA approved on September 16, 2004, under approval number 2004-9648, for related information.

Issued in Kansas City, Missouri, on May 9, 2007.
Charles L. Smalley,
Acting Manager, Small Airplane Directorate, Aircraft Certification Service.

[FR Doc. 07-2472 Filed 5-17-07; 8:45 am]

BILLING CODE 4910-13-P